CORPORATION FOR NATIONAL AND COMMUNITY SERVICE

Proposed Information Collection; Comment Request

AGENCY: Corporation for National and Community Service.

ACTION: Notice.

SUMMARY: The Corporation for National and Community Service (hereinafter the “Corporation”), has submitted an information collection request (ICR) entitled AmeriCorps State and National Information Collections Related to Disaster Relief Efforts to the Office of Management and Budget (OMB) for review and clearance in accordance with the Paperwork Reduction Act of 1995, (PRA 95) (44 U.S.C. Chapter 35). A copy of this ICR, with applicable supporting documentation, may be obtained by contacting the Corporation for National and Community Service, AmeriCorps State and National, Amy Borgstrom, Associate Director for Policy, (202) 606-6930, or by e-mail at Aborgstrom@cns.gov. Individuals who use a telecommunications device for the deaf (TTY/TDD) may call (202) 606-3472 between the hours of 9 a.m. and 4:30 p.m. eastern time, Monday through Friday.

Copies of the information collection request can be obtained by contacting the office listed in the address section of this notice.

DATES: Written comments must be submitted to the individual and office listed in the ADDRESSES section by February 13, 2006.

ADDRESSES: You may submit comments, identified by the title of the information collection activity, by any of the following methods:

(1) By mail sent to: Corporation for National and Community Service, AmeriCorps State and National, Amy Borgstrom, Associate Director for Policy, 1201 New York Ave., NW., Washington, DC 20525.

(2) By hand delivery or by courier to the Corporation's mailroom at Room 8100 at the mail address given in paragraph (1) above, between 9 a.m. and 4 p.m. Monday through Friday, except Federal holidays.

(3) By fax to: (202) 606-3476, Attention Amy Borgstrom, Associate Director for Policy.

(4) Electronically through the Corporation's e-mail address system: aborgstrom@cns.gov.

FOR FURTHER INFORMATION CONTACT: Amy Borgstrom, (202) 606-6930 or e-mail to Aborgstrom@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Current Action

Description: This submission includes one set of instructions for current grantees to submit requests for budget amendment in order to carry out disaster relief efforts.

Type of Review: Renewal.

Agency: Corporation for National and Community Service.

Title: AmeriCorps State and National Award Programs Application Instructions.

OMB Number: 3045-0113.

Agency Number: None.

Affected Public: States and nonprofit organizations.

Total Respondents: 75 for Budget Amendment Requests.

Frequency: One-time only for Budget Amendment Requests.

Average Time Per Response: Budget Amendment Request: 2 hours.

Estimated Total Burden Hours: 150 hours for Budget Amendment Requests.

Total Burden Cost (capital/startup): None.

Total Burden Cost (operating/maintenance): None.

Dated: December 9, 2005.
Rosie Mauk,
Director, AmeriCorps.

[FR Doc. E5-7324 Filed 12-13-05; 8:45 am]

BILLING CODE 6050-$$-P